DEPARTMENT OF TRANSPORTATION

Federal Aviation Administration

14 CFR Part 39

[Docket No. FAA-2023-2397; Project Identifier MCAI-2023-00601-T; Amendment 39-22730; AD 2024-07-09]

RIN 2120-AA64

Airworthiness Directives; Bombardier, Inc., Airplanes

AGENCY: Federal Aviation Administration (FAA), DOT.

ACTION: Final rule.

SUMMARY: The FAA is adopting a new airworthiness directive (AD) for certain Bombardier, Inc., Model BD-700-1A10 and BD-700-1A11 airplanes. This AD was prompted by the discovery that existing maintenance tasks do not detect the potential failure of the passenger door detent mechanism because there is no procedure for inspecting the passenger door locking mechanism. This AD requires revising the maintenance or inspection program, as applicable, to require use of a certain aircraft maintenance manual (AMM) task during accomplishment of a specified maintenance check. The FAA is issuing this AD to address the unsafe condition on these products.

DATES: This AD is effective June 17, 2024.

The Director of the Federal Register approved the incorporation by reference of certain publications listed in this AD as of June 17, 2024.

ADDRESSES:

AD Docket: You may examine the AD docket at regulations.gov under Docket No. FAA-2023-2397; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Bombardier material, contact Bombardier Business Aircraft Customer Response Center, 400 Côte-Vertu Road West, Dorval, Québec H4S 1Y9, Canada; telephone 514-855-2999; email ac.yul@aero.bombardier.com; website bombardier.com.

• You may view this material at the FAA, Airworthiness Products Section, Operational Safety Branch, 2200 South 216th St., Des Moines, WA. For information on the availability of this material at the FAA, call 206-231-3195. It is also available at regulations.gov under Docket No. FAA-2023-2397.

FOR FURTHER INFORMATION CONTACT: Gabriel Kim, Aviation Safety Engineer, FAA, 1600 Stewart Avenue, Suite 410, Westbury, NY 11590; phone: 516-228-7300; email: 9-avs-nyaco-cos@faa.gov.

SUPPLEMENTARY INFORMATION:

Background

The FAA issued a notice of proposed rulemaking (NPRM) to amend 14 CFR part 39 by adding an AD that would apply to certain Bombardier, Inc., Model BD-700-1A10 and BD-700-1A11 airplanes. The NPRM published in the Federal Register on December 22, 2023 (88 FR 88541). The NPRM was prompted by AD CF-2023-25, dated April 13, 2023 (referred to after this as the MCAI), issued by Transport Canada, which is the aviation authority for Canada. The MCAI states time limited maintenance check (TLMC) item 52-11-00-201, “Passenger Door Mechanism Functional Test,” does not detect potential failure of the passenger door detent mechanism. Associated aircraft maintenance manual (AMM) task 52-11-00-720-801, “Passenger Door Mechanism Functional Test,” does not provide a procedure for inspecting the passenger door locking mechanism.

In the NPRM, the FAA proposed to require revising the maintenance or inspection program, as applicable, to require use of a certain AMM task during accomplishment of a specified maintenance check. The FAA is issuing this AD to address potential failures of the uninspected detents (external handle detent and torque tube detent) in combination with a failure of the tension pot spring assembly. The unsafe condition, if not addressed, could result in the main passenger door opening during unpressurized flight.

You may examine the MCAI in the AD docket at regulations.gov under Docket No. FAA-2023-2397.

Discussion of Final Airworthiness Directive

Comments

The FAA received a comment from NetJets Inc. The following presents the comment received on the NPRM and the FAA's response to the comment.

Request To Refer to Most Recent AMM Revision Level

NetJets Inc. asked that the AMM task revision levels identified in the NPRM be changed, as there have been recent improvements to the documents. NetJets Inc. added that credit for the revisions currently listed should also be included in the proposed AD. Bombardier noted that the referenced AMM revision levels were revised during the public comment period of the NPRM.

The FAA provides the following clarification denoting that the requested changes are unnecessary. This AD requires incorporating the information specified in the referenced AMM revisions identified in figure 1 to paragraph (g) of this AD. The language in paragraph (g) of this AD allows the incorporation of the specific information, regardless of the AMM revision level in use, provided the language is identical to the information provided in Task 52-11-00-720-801, specified in the applicable AMMs specified in figure 1 to paragraph (g) of this AD. The language in a later revision of the applicable AMMs specified in figure 1 to paragraph (g) of this AD may be incorporated if it is identical. Therefore, if operators incorporate later AMMs into the maintenance or inspection program, as applicable, with identical language they are in compliance with paragraph (g) of this AD. The FAA has confirmed that the revisions cited by the commenter are identical to the revisions specified in this AD.

If the language provided in a later AMM revision is not identical to the language provided in the task specified in the applicable AMMs specified in figure 1 to paragraph (g) of this AD, operators must submit a request for approval of an alternate method of compliance (AMOC) with supporting data that demonstrates an acceptable level of safety for a task that differs from Task 52-11-00-720-801. The FAA has revised paragraph (g) of this AD to clarify that it's the information in the applicable AMM that is mandated and not limited to the AMM revision specified in figure 1 of paragraph (g) of this AD.

Additional Change to This AD

Paragraph (i) of this AD has been added to clarify that no changes to actions required by paragraph (g) of this AD are allowed without an AMOC, which also reinforces the provisions of paragraph (h) of this AD.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

The FAA reviewed Task 52-11-00-720-801, “Functional Test of the Passenger Door Mechanism,” Subject 52-11-00, “Passenger Door,” Chapter 52, “Doors,” of the following AMMs. This task specifies new inspection instructions for the passenger door detent mechanisms.

• Bombardier Global Express AMM, Part Two, Publication No. BD-700 AMM, Revision 97, dated March 30, 2023. (For obtaining the task for Bombardier Global Express AMM, Part Two, Publication No. BD-700 AMM, use Document Identification No. GL 700 AMM.)

• Bombardier Global 5000 AMM, Part Two, Publication No. BD-700 AMM, Revision 78, dated March 30, 2023. (For obtaining the task for Bombardier Global 5000 AMM, Part Two, Publication No. BD-700 AMM, use Document Identification No. GL 5000 AMM.)

• Bombardier Global 5000 Featuring Global Vision Flight Deck AMM, Part Two, Publication No. GL 5000 GVFD AMM, Revision 45, dated March 30, 2023.

• Bombardier Global 5500 AMM, Part Two, Publication No. GL 5500 AMM, Revision 14, dated March 30, 2023.

• Bombardier Global 6000 AMM, Part Two, Publication No. GL 6000 AMM, Revision 46, dated March 30, 2023.

• Bombardier Global 6500 AMM, Part Two, Publication No. GL 6500 AMM, Revision 15, dated March 30, 2023.

• Bombardier Global Express XRS AMM, Part Two, Publication No. BD-700 XRS AMM, Revision 75, dated March 30, 2023. (For obtaining the task for Bombardier Global Express XRS AMM, Part Two, Publication No. BD-700 XRS AMM, use Document Identification No. GL XRS AMM.)

This service information is reasonably available because the interested parties have access to it through their normal course of business or by the means identified in the ADDRESSES section.

Costs of Compliance

The FAA estimates that this AD, affects 482 airplanes of U.S. registry. The FAA estimates the following costs to comply with this AD:

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-07-09 Bombardier, Inc.: Amendment 39-22730; Docket No. FAA 2023-2397; Project Identifier MCAI-2023-00601-T.

(a) Effective Date

This airworthiness directive (AD) is effective June 17, 2024.

(b) Affected ADs

None.

(c) Applicability

This AD applies to Bombardier, Inc., Model BD-700-1A10 and BD-700-1A11 airplanes, certificated in any category, serial numbers (S/Ns) 9002 through 60065 inclusive.

(d) Subject

Air Transport Association (ATA) of America Code 52, Doors.

(e) Unsafe Condition

This AD was prompted by the discovery that existing maintenance tasks do not detect the potential failure of the passenger door detent mechanism because there is no procedure for inspecting the passenger door locking mechanism. The FAA is issuing this AD to address potential failures of the uninspected detents (external handle detent and torque tube detent) in combination with a failure of the tension pot spring assembly. The unsafe condition, if not addressed, could result in the main passenger door opening during unpressurized flight.

(f) Compliance

Comply with this AD within the compliance times specified, unless already done.

(g) Maintenance or Inspection Program Task Restrictions

Within 30 days after the effective date of this AD, revise the existing maintenance or inspection program, as applicable, to use the information specified in Aircraft Maintenance Manual (AMM) Task 52-11-00-720-801, “Functional Test of the Passenger Door Mechanism,” Subject 52-11-00, “Passenger Door,” Chapter 52, “Doors,” of the applicable AMMs identified in figure 1 to paragraph (g) of this AD, when performing time limited maintenance check item 52-11-00-201.

Figure 1 to Paragraph (g)—Bombardier AMM

(h) AMM Revision Prohibition

After revising the maintenance or inspection program as required by paragraph (g) of this AD, it is prohibited to use AMM Task 52-11-00-720-801, dated May 19, 2022, or earlier.

(i) No Alternative Actions, Intervals

After the existing maintenance or inspection program has been revised as required by paragraph (g) of this AD, no alternative actions (e.g., inspections), intervals, may be used unless the actions, intervals, are approved as an alternative method of compliance (AMOC) in accordance with the procedures specified in paragraph (j)(1) of this AD.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (k)(2) of this AD. Information may be emailed to: 9-AVS-NYACO-COS@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada or Bombardier, Inc.'s Transport Canada Design Approval Organization (DAO). If approved by the DAO, the approval must include the DAO-authorized signature.

(k) Additional Information

(1) Refer to Transport Canada AD CF-2023-25, dated April 13, 2023, for related information. This Transport Canada AD may be found in the AD docket at regulations.gov under Docket No. FAA-2023-2397.

(2) For more information about this AD, contact Gabriel Kim, Aviation Safety Engineer, FAA, 1600 Stewart Avenue, Suite 410, Westbury, NY 11590; telephone 516-228-7300; email 9-avs-nyaco-cos@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Task 52-11-00-720-801, “Functional Test of the Passenger Door Mechanism,” Subject 52-11-00, “Passenger Door,” Chapter 52, “Doors,” of Bombardier Global 5000 Aircraft Maintenance Manual (AMM), Part Two, Publication No. BD-700 AMM, Revision 78, dated March 30, 2023.

Note 1 to paragraph (l)(2)(i): For obtaining the task for Bombardier Global 5000 AMM, Part Two, Publication No. BD-700 AMM, use Document Identification No. GL 5000 AMM.

(ii) Task 52-11-00-720-801, “Functional Test of the Passenger Door Mechanism,” Subject 52-11-00, “Passenger Door,” Chapter 52, “Doors,” of Bombardier Global 5000 Featuring Global Vision Flight Deck AMM, Part Two, Publication No. GL 5000 GVFD AMM, Revision 45, dated March 30, 2023.

(iii) Task 52-11-00-720-801, “Functional Test of the Passenger Door Mechanism,” Subject 52-11-00, “Passenger Door,” Chapter 52, “Doors,” of Bombardier Global 5500 AMM, Part Two, Publication No. GL 5500 AMM, Revision 14, dated March 30, 2023.

(iv) Task 52-11-00-720-801, “Functional Test of the Passenger Door Mechanism,” Subject 52-11-00, “Passenger Door,” Chapter 52, “Doors,” of Bombardier Global 6000 AMM, Part Two, Publication No. GL 6000 AMM, Revision 46, dated March 30, 2023.

(v) Task 52-11-00-720-801, “Functional Test of the Passenger Door Mechanism,” Subject 52-11-00, “Passenger Door,” Chapter 52, “Doors,” of Bombardier Global 6500 AMM, Part Two, Publication No. GL 6500 AMM, Revision 15, dated March 30, 2023.

(vi) Task 52-11-00-720-801, “Functional Test of the Passenger Door Mechanism,” Subject 52-11-00, “Passenger Door,” Chapter 52, “Doors,” of Bombardier Global Express AMM, Part Two, Publication No. BD-700 AMM, Revision 97, dated March 30, 2023.

Note 2 to paragraph (l)(2)(i): For obtaining the task for Bombardier Global Express AMM, Part Two, Publication No. BD-700 AMM, use Document Identification No. GL 700 AMM.

(vii) Task 52-11-00-720-801, “Functional Test of the Passenger Door Mechanism,” Subject 52-11-00, “Passenger Door,” Chapter 52, “Doors,” of Bombardier Global Express XRS AMM, Part Two, Publication No. BD-700 XRS AMM, Revision 75, dated March 30, 2023.

Note 3 to paragraph (l)(2)(vii): For obtaining the task for Bombardier Global Express XRS AMM, Part Two, Publication No. BD-700 XRS AMM, use Document Identification No. GL XRS AMM.

(3) For Bombardier service information, contact Bombardier Business Aircraft Customer Response Center, 400 Côte-Vertu Road West, Dorval, Québec H4S 1Y9, Canada; telephone 514-855-2999; email ac.yul@aero.bombardier.com; website bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on April 26, 2024.
James D. Foltz,
Deputy Director, Compliance & Airworthiness Division, Aircraft Certification Service.

[FR Doc. 2024-09546 Filed 5-10-24; 8:45 am]

BILLING CODE 4910-13-P